NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a current valid OMB control number.

1. Type of submission, new, revision, or extension: Extension.

2. The title of the information collection: 10 CFR Part 62—“Criteria and Procedures for Emergency Access to Non-Federal and Regional Low-Level Waste Disposal Facilities”.

3. The form number if applicable: Not applicable.

4. How often the collection is required: Requests are made only when access to a non-Federal low-level waste disposal facility is denied, which results in a public health and safety and/or common defense and security.

5. Who will be required or asked to report: Generators of low-level waste who are denied access to a non-Federal low-level waste facility.

6. An estimate of the number of annual responses: 1 every 3 years.

7. The number of annual respondents: 1 every 3 years (No requests have been received to date).

8. An estimate of the total number of hours needed annually to complete the requirement or request: 680 hours per request, or 227 hours annually.

9. An indication of whether section 3507(d), Pub. L. 104-13 applies: Not applicable.

10. Abstract: 10 CFR Part 62 sets out the information which will have to be provided to the NRC by any low-level waste generator seeking emergency access to an operating low-level waste disposal facility. The information is required to allow NRC to determine if denial of disposal constitutes a serious and immediate threat to public health and safety or common defense and security.

A copy of the final supporting statement may be viewed free of charge at the NRC Public Document Room, One White Flint North, 11555 Rockville Pike, Room O-1 F21, Rockville, MD 20852. OMB clearance requests are available at the NRC worldwide Web site: http://www.nrc.gov/public-involve/doc-comment/OMB/index/html. The document will be available on the NRC home page site for 60 days after the signature date of this notice.

Comments and questions should be directed to the OMB reviewer listed below by June 5, 2003. Comments received after this date will be considered if it is practical to do so, but assurance of consideration cannot be given to comments received after this date.

Bryon Allen, Office of Information and Regulatory Affairs (3150-0143), NEOB-10202, Office of Management and Budget, Washington, DC 20503.

Comments can also be submitted by telephone at (202) 395-3087.

The NRC Clearance Officer is Brenda Jo. Shelton, 301-415-7233.

Dated at Rockville, Maryland, this 30th day of April 2003.
For the Nuclear Regulatory Commission.
Brenda Jo. Shelton,
NRC Clearance Officer, Office of the Chief Information Officer.

[FR Doc. 03-11160 Filed 5-5-03; 8:45 am]

BILLING CODE 7590-01-P